ENVIRONMENTAL PROTECTION AGENCY

[FRL-8472-2]

Science Advisory Board Staff Office; Notification of Public Meetings of the Science Advisory Board Radiation Advisory Committee MARSAME Review Panel

AGENCY: Environmental Protection Agency (EPA).

ACTION: Notice.

SUMMARY: The EPA Science Advisory Board (SAB) Staff Office announces two public meetings of the SAB Radiation Advisory Committee (RAC) augmented with additional experts to review the draft document entitled “Multi-Agency Radiation Survey and Assessment of Materials and Equipment (MARSAME) Manual,” December 2006.

DATES: The SAB Radiation Advisory Committee (RAC) MARSAME Review Panel will hold a public teleconference on Tuesday, October 9, 2007 from 1 p.m. to 4 p.m. Eastern Time, and a public face-to-face meeting on October 29 through October 31, 2007, commencing at 9 a.m. Eastern Time on Monday, October 29, 2007.

The final agendas for these public meetings will be posted on the SAB's Web site at http://www.epa.gov/sab.

ADDRESSES: The public teleconference meeting of October 9, 2007 will take place via telephone only. The October 29—31, 2007 meeting will take place at the Renaissance M Street Hotel, 1143 New Hampshire Avenue, NW., Washington, DC 20037.

FOR FURTHER INFORMATION CONTACT: Members of the public who wish to obtain the call-in number and access code for the public teleconference meeting, or further information concerning the face-to-face public meeting may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web Site at: http://www.epa.gov/sab.

Technical Contact: For questions and information concerning the draft MARSAME document, background information, as well as briefing and other background materials provided to the RAC MARSAME Review Panel which are pertinent to the meetings in this notice, please contact Dr. Mary E. Clark of the U.S. EPA, ORIA by telephone at (202) 343-9348, fax at (202) 243-2395, or e-mail at clark.marye@epa.gov.

SUPPLEMENTARY INFORMATION: Background: The EPA's Office of Radiation and Indoor Air (ORIA) on behalf of the Federal agencies participating in the development of the MARSAME Manual (see below) requested the SAB to provide advice on a draft document entitled “Multi-Agency Radiation Survey and Assessment of Materials and Equipment (MARSAME) Manual,” December 2006. MARSAME is a supplement to the “Multi-Agency Radiation Survey and Site Investigation Manual” (MARSSIM, EPA 402-R-970-016, Rev.1, August 2000 and June 2001 update). The SAB Staff Office announced this advisory activity and requested nominations for technical experts to augment the SAB's Radiation Advisory Committee (RAC) in the Federal Register (72 FR 11356; March 13, 2007). MARSAME was developed collaboratively by the multi-agency work group (60 FR 12555; March 7, 1995) and provides technical information on approaches for planning, conducting, evaluating, and documenting radiological disposition surveys to determine proper disposition of materials and equipment (M&E). The techniques, methodologies, and philosophies that form the basis of this manual have been developed to be consistent with current Federal limitations, guidelines, and procedures. The multi-agency work group which developed the MARSAME manual consists of the U.S. Department of Defense (DOD); the U.S. Department of Energy (DOE); the U.S. Environmental Protection Agency (EPA); and the U.S. Nuclear Regulatory Commission (NRC).

MARSSIM was limited to surfaces soils and building surfaces. The MARSAME supplement addresses M&E potentially affected by radioactivity, including metals, concrete, tools, equipment, piping, conduit, furniture and dispersible bulk materials such as trash, rubble, roofing materials, and sludge. Such M&E may be containers and packages in general commerce or from licensed users of radioactivity. The wide variety of M&E requires additional flexibility in the survey process, and this has been incorporated in MARSAME. MARSAME encourages an effective use of resources, and when finalized, will be a multi-agency consensus document.

The purpose of this supplement to MARSSIM is to provide information for the design and implementation of technically defensible surveys for disposition of M&E, where disposition is defined as the future use, fate, or final location of something. MARSAME provides information on selecting and properly applying disposition survey strategies and selecting measurement methods.

The U.S. EPA SAB conducted the scientific peer reviews of the companion Multi-Agency documents, MARSSIM (EPA-SAB-RAC-97-008, dated September 30, 1997) and the Multi-Agency Radiological Laboratory Analytical Protocols (MARLAP) Manual (EPA-SAB-RAC-03-009, dated June 10, 2003). Two previous SAB consultations have taken place for MARSAME (EPA-SAB-RAC-CON-03-002, dated February 27, 2003, and EPA-SAB-RAC-CON-04-001, dated February 9, 2004). The SAB reports can be found on the EPA SAB's Web site at http://www.epa.gov/sab.

Pursuant to the Federal Advisory Committee Act (FACA), Public Law 92-463, the SAB Staff Office hereby gives notice of one public teleconference meeting and one face-to-face public meeting of the SAB Radiation Advisory Committee (RAC) augmented to deal with this subject. The SAB was established by 42 U.S.C. 4365 to provide independent scientific and technical advice, consultation, and recommendations to the EPA Administrator on the technical basis for Agency positions and regulations. The augmented RAC will comply with the provisions of FACA and all appropriate SAB procedural policies.

Purpose of the Teleconference and Meeting: The purpose of the teleconference is to: introduce the subject and discuss the charge to the Panel; determine if the review and background materials provided are adequate to respond to the charge questions directed to the SAB's RAC MARSAME Review Panel; and agree on charge assignments for Panelists. The purpose of the meeting is to: receive presentations by the Multi-Agency Work Group Staff; deliberate on the charge questions; and draft a report in response to the charge questions pertaining to the draft MARSAME Manual, dated December 2006.

Availability of Meeting Materials: A roster and biosketches of the RAC MARSAME Review Panel members, the meeting agenda, and the charge to the SAB's RAC MARSAME Review Panel will be posted on the SAB Web Site at (http://www.epa.gov/sab) prior to the meetings. The draft document, “Multi-Agency Radiation Survey and Assessment of Materials and Equipment (MARSAME) Manual,” December 2006 (NUREG-1575, Supp. 1; EPA 402-R-06-002; and DOE/EH-707) is available at http://63.151.45.33/marsame/system/index.cfm, or http://epa.gov/radiation/marssim/publicpreview.htm#obtain. In addition to the hotlinks above, the charge to the RAC's MARSAME Review Panel, and other supplemental information may be found at the SAB Web Site (http://www.sab.gov/sab).

Additional background materials on the December, 2006 draft MARSAME Manual and other materials related to this topic may be found at:

MARSAME: http://63.151.45.33/marsame/system/index.cfm, or: http://epa.gov/radiation/marssim/publicpreview.htm#obtain for the draft document itself,

MARSSIM: http://epa.gov/radiation/marssim/index.html, or: http://epa.gov/radiation/marssim/obtain.htm for the document itself; and

MARLAP: http://epa.gov/radiation/marlap/index.html, or: http://epa.gov/radiation/marlap/manual.htm#voli for the document itself.

Procedures for Providing Public Input: Interested members of the public may submit relevant written or oral information for the SAB Panel to consider during the advisory process.

Oral Statements: In general, individuals or groups requesting an oral presentation at a public teleconference will be limited to three minutes per speaker with no more than a total of fifteen minutes for all speakers. For face-to-face meetings, in general, individuals or groups requesting an oral presentation at a public face-to-face meeting will be limited to five minutes per speaker. Interested parties should contact the DFO, contact information provided above, in writing via e-mail seven days prior to the teleconference meeting date. For the October 9, 2007 teleconference meeting, the deadline is Tuesday, October 2, 2007. For the October 29, 30, and 31, 2007 meeting, the deadline is Monday, October 22, 2007 to be placed on the public speaker list. Written Statements: Written statements should be received in the SAB Staff Office seven days prior to the teleconference meeting. For the Tuesday, October 9, 2007 teleconference meeting, the deadline is Tuesday, October 2, 2007; for the October 29, 30 and 31, 2007 meeting the deadline is Monday, October 22, 2007, so that the information may be made available to the SAB RAC MARSAME Review Panel for their consideration. Written statements should be supplied to the DFO in the following formats: one hard copy with original signature, and one electronic copy via e-mail to kooyoomjian.jack@epa.gov (acceptable file format: Adobe Acrobat, WordPerfect, Word, or Rich Text files in IBM-PC/Windows 98/2000/XP format).

Meeting Accommodations: For information on access or services for individuals with disabilities, please contact the DFO, contact information provided above. To request accommodation of a disability, please contact the DFO, preferably at least 10 days prior to the meeting, to give EPA as much time as possible to process your request.

Dated: September 18, 2007.
Anthony F. Maciorowski,
Deputy Director, EPA Science Advisory Board Staff Office.

[FR Doc. E7-18813 Filed 9-21-07; 8:45 am]

BILLING CODE 6560-50-P